DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Generic Clearance for Data User Evaluation Surveys.

OMB Control Number: 0607-0760.

Form Number(s): Various.

Type of Request: Extension of a currently approved collection.

Burden Hours: 15,000.

Number of Respondents: 30,000.

Average Hours per Response: 30 minutes.

Needs and Uses: The U.S. Census Bureau requests an extension for an additional three years of its generic clearance to conduct customer/product-based research. This extension will allow us to continue to use customer satisfaction surveys, personal interviews, web-based interviews, or focus group research to effectively improve and make more customer-oriented programs, products, and services.

Extended clearance for data collections would continue to cover customer/program-based research for any Census Bureau program area that needs to measure customer needs, uses, and preferences for statistical information and services. The customer base includes, but is not limited to previous, existing, and potential businesses and organizations, alternate Census Bureau data disseminators like State Data Centers, Business and Industry Data Centers, Census Information Centers, Federal or Census Depository Libraries, educational institutions, and not-for-profit or other organizations.

The Census Bureau's Forms Clearance Officer and the Customer Liaison and Marketing Services Office (CLMSO) jointly administer the generic clearance. Census Bureau offices requiring customer and/or product-based research contact the CLMSO to help them determine the best strategy for fulfilling their information needs and then develop an appropriate collection mechanism, ensuring conformance with OMB requirements and Census Bureau strategic goals and objectives and to avert duplication or repetitive data collection. CLMSO also assists in the preparation of supporting documentation which, together with draft research documents are submitted to OMB for review two weeks in advance of any information collection activity. The Forms Clearance Officer approves and forwards this documentation to the OMB.

The CLMSO also prepares an annual report to OMB fully describing work done under the generic clearance, including:

• Descriptions of individual research conducted

• numbers of respondents and respondent burden hours used

• dates of each survey

• individual and aggregated costs of surveys

• individual summaries of results and program/product decisions that were made based upon customer responses and feedback

Information collected from customer research helps the Census Bureau to measure its customer base-their use, satisfaction, and preferences for existing and future programs, products and services.

Affected Public: Individuals or households; Business or other for-profit organizations; Not-for-profit institutions; Federal Government; State, local or Tribal government.

Frequency: On occasion.

Respondent's Obligation: Voluntary.

Legal Authority: Executive Order 12862.

This information collection request may be viewed at reginfo.gov. Follow the instructions to view Department of Commerce collections currently under review by OMB.

Written comments and recommendations for the proposed information collection should be sent within 30 days of publication of this notice to OIRA_Submission@omb.eop.gov or fax to (202) 395-5806.

Dated: May 5, 2014.
Gwellnar Banks,
Management Analyst, Office of the Chief Information Officer.

[FR Doc. 2014-10654 Filed 5-8-14; 8:45 am]

BILLING CODE 3510-07-P